POSTAL SERVICE

Removal of International Restricted Delivery From the Competitive Product List

AGENCY: Postal Service™.

ACTION: Notice.

SUMMARY: The Postal Service hereby provides notice that it has filed a request with the Postal Regulatory Commission to remove International Restricted Delivery from the competitive product list.

DATES: Effective date: October 19, 2012.

FOR FURTHER INFORMATION CONTACT: Caroline Brownlie, 202-268-3010.

SUPPLEMENTARY INFORMATION: On October 11, 2012, the United States Postal Service® filed with the Postal Regulatory Commission the Request of the United States Postal Service to Remove International Restricted Delivery from the Competitive Product List, pursuant to 39 U.S.C. 3642. Documents pertinent to this request are available at http://www.prc.gov, Docket No. MC2013-3.

Stanley F. Mires,
Attorney, Legal Policy & Legislative Advice.

[FR Doc. 2012-25728 Filed 10-18-12; 8:45 am]

BILLING CODE 7710-12-P